DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending March 31, 2005.

LNAME | FNAME | MNAME
MEURICE | ERIC
MEURICE | MARIE-CHRISTINE
HUBER | PAUL | BICKFORD
HUNG | HUANG-WEI | VICKI
TOFT | KLAUS | BJERRE
MULLINS | MITSU
BELLATI | ROBERTO
CURRY | BRIAN
JOHNS | JOSEPH | BRADLEY
COLOMBO | MARCO
ABEL | WILLIAM | CRAIG
HENDLER | DAVID
EASTLAND | ELIZABETH | DRAAHAM
CLARK | JON | PETER
SADLI | PUTRA
HAN | INSOOK
WANG | RONNY
HIRAGUCHI | ARATA
FISCH | DANIEL
GARSIDE | GEOFFREY
HUCK | BRIAN | GLEN
FURMAN | TIMOTHY | JON
CHEN | WINSTON | MIN-JEN
WU | YING | YIH
DANG | WINSTON | TION-SIN
BARBER | MARILYN
WIEST | WILLIAM | GORDON
FURR | STEPHEN | DEAN
ISHIHARA | TETSUO | BLISS
FURUICHI | YASUTOSHI
BORUNDA | JOSE | CARLOS
GARCIA | JOSE | SIMILIANO
NEMYER | ANGELIQUE | JUSTINE
HAUGEREID | SARITA | ALICE
CSONT | ISTVAN
PARZYCH | NORMAN | RUSSELL
TAVY-BIELAN | ELIZABETH
ASEALI | ROSEMARIE
HUSTON | JIMMY
MADRIL | KEVIN | KLAUS
SCHMID | FRANK | NICHOLAS
MENAGE | JAN | MICHAEL
WILHELM | RALPH | EUGENE
ATKINS | JULIE | JO
KIM | JOSHUA | KYUNG HO
LAW | SAMUEL | SAUSUM
KWAN | YANY | YAN-CHI
RODRIGUEZ | DAVID | ROLAND
KARRER | JULIAN | MARK PAUL
VIEHOEVER | GABRIELE
HUANG | SUE-YING
YEN | HO-TZU
WEKHOF | ALEXANDER
MORRISON | NINA
SCHETLIN | OSCAR | WERNER
STUCK | MARIANNE
HANDLERY | GEORGE | DE POOR
GEDUFIN | XAVIER | ANDRE
GRAETZ | CONNIE | CHARLOTTE
GRAETZ | GALLEON | TELL SAMUEL
MEHRA | RAVINDER
TARK | GEORGE | HAN
FRANCO | WENDY | ANN
TAN | LI-SHENG
DELCROIX | AURORA | DEINSE JEAN
HOLT | KAREN | MARGIT MONIKA
HUTTERER | DANIELA
MILLER | BENJAMIN
CAI | CATHERINE | HONGJUN
MCCARGAR | MURRAY | COULSON
GORDON | MARK | LEWIS
SNYDER | JOHN | SCOTT
HOWELL | JANET | CHRISTINE
HOWELL | JAMES | DAMRON
PARK | JAE | YOUNG
LEE | SOO | HO
MOCHIZUKI | SHINICHI
ESPOSITO | FABIO | BRUNO
STEWART | BRIAN | DOUGLAS
GOIN | RONNY
MILLER | JONATHAN | HARPER
RECALDIN | DAVID
FALTERMANN | CLETHRA | MARCELLA ANN
RUTLEDGE | MICHAEL | EDWIN
RALSEN | THEODORE | VISTOR
MURPHY | MAUREEN | ANN
PATTULLO | JAMES | IAN KENNETH
MOYLE | CHARLOTTE | EWING
WHITE | JOSEPH | ROBERT
XU | YANG SHENG
PILCH | JOZEF | PATRICK
CRAWFORD | JILL | ELIZABETH
ANG | CLARISSA | YIH-ZHEN
TAN | GEOFFREY | CHERN-YEE
HONE | ELIZABETH | KELLOG
PEARSON | JAMES | EDWARD
KOETTING | HORST | WERNER
CRAWFORD | DONALD | ALEXANDER HAMILTON
SORRIENTO | ROCCO
HATA | HIDETO
HOLLOWAY | JULIA | BOLTON
KAPSE | ANAMIKA | ANIL
MILLER | ALEXANDRA | COURTNEY
THOMAS | CINDY | KAY
HARTNETT | WILLIAM | JOSEPH
HUSK | STEPHEN | RICHARD
CRAGG | MARION | VALERIE
DARNBROUGH | ROBERT | ALLAN
GARPEIY | SARAH | SOOK
CRUCE | RICHARD | LEROY
BERMUDEZ | MATTHEW | JACOB
MENDEL | ROM | MILLEL
RAAB | SIMONE | FRIEDERIKE
LARSEN | JUDITH | ANN
FALASCA | DIANE
PETERSEN | ELSE | MARIE
VOGEL | DEREK | EDWARD
WARZELHAN | KIMBERLY | ANNE
WIESNER-FRIEDRICHSEN | ELKE
CRONIN | JOHN | RICHARD
CRONIN | DORIS | ANN
GAINES | RUTH

DATED: April 20, 2005.
Angie Kaminski,
Examination Operation, Philadelphia Compliance Services.

[FR Doc. E5-2151 Filed 5-3-05; 8:45 am]

BILLING CODE 4830-01-P